DEPARTMENT OF HEALTH AND HUMAN SERVICES

Administration for Children and Families

Submission for OMB Review; Comment Request

Title: Administrative subpoena.

OMB No.: 0970-0152.

Description: P.L. 104-193, the Personal Responsibility and Work Opportunity Act of 1996 amended section 652(a) of the Social Security Act (the Act) to require the Federal Office of Child Support Enforcement (OCSE) to promulgate an administrative subpoena to be used by the State Child Support Enforcement (CSE) programs in interstate cases. (See attachment #1) The OMB approval of the form is expiring and we are taking this opportunity to make minor revisions to the form to further assist States in gaining access to the assets of child support obligors.

Respondents: States.

Annual Burden Estimates
Instrument | Number of respondents | Number of responses per respondent | Average burden hours per response | Total burden hours
Administrative Subpoena | 24,695 | 1 | 0.5 | 12,347

Estimated Total Annual Burden Hours: 12,347.

Additional Information:

Copies of the proposed collection may be obtained by writing to The Administration for Children and Families, Office of Information Services, 370 L'Enfant Promenade, S.W., Washington, D.C. 20447, Attn: ACF Reports Clearance Officer.

OMB Comment: OMB is required to make a decision concerning the collection of information between 30 and 60 days after November 30, 2000. Therefore, a comment is best assured of having its full effect if OMB receives it before January 2, 2001. Written comments and recommendations for the proposed information collection should be sent directly to the following: Office of Management and Budget, Paperwork Reduction Project, 725 17th Street, N.W., Washington, D.C. 20503, Attn: Desk Officer for ACF.

Dated: November 22, 2000.
Bob Sargis,
Reports Clearance Officer.

[FR Doc. 00-30496 Filed 11-29-00; 8:45 am]

BILLING CODE 4184-01-M